DEPARTMENT OF DEFENSE

Department of the Army, Corps of Engineers

Environmental Impact Statement Withdrawal and Availability of an Environmental Assessment for the Souris River Basin Flood Risk Management Feasibility Study, Ward County, North Dakota

AGENCY: U.S. Army Corps of Engineers, DoD.

ACTION: Notice of withdrawal of an environmental impact statement; notice of availability of an environmental assessment.

SUMMARY: In accordance with the National Environmental Policy Act (NEPA), on September 18, 2016, the St. Paul District, U.S. Army Corps of Engineers (Corps) initiated the Environmental Impact Statement (EIS) process to identify and analyze potential impacts associated with flood risk management measures evaluated within a Federal feasibility study for the Souris River Basin within the continental United States. Currently, the Corps has identified a Tentatively Selected Plan (TSP) that includes a high-flow diversion and a 1200-ft long levee. However, preliminary analysis of the TSP indicate no significant impacts are expected, therefore the Corps is terminating the EIS process and is withdrawing the Notice of Intent published in the Thursday, September 18, 2016 issue of the Federal Register. In its place, a draft integrated Feasibility Report and Environmental Assessment (FR/EA) will be available for a 30-day public comment period beginning October 30, 2017.

DATES: Comments on the draft FR/EA may be submitted starting October 30, 2017 through November 30, 2017. If comments are provided by mail, they must be received at the address below no later than November 30, 2017.

ADDRESSES: The draft FR/EA can be viewed online starting October 30, 2017 at http://www.mvp.usace.army.mil/Home/Public-Notices/.

Comments may be submitted on the draft FR/EA using any of the following methods:

• Mail: Attn: David F. Potter, Regional Planning and Environment Division North, U.S. Army Corps of Engineers, 180 Fifth Street East, Suite 700, St. Paul, MN 55101-1678.

• Email: david.f.potter@usace.army.mil.

Instructions: Direct your comments to Corps of Engineers St. Paul District. Comment letters should include the commenter's physical mailing address and the project title in the subject line. Please ensure that your comments are submitted within the specified comment period. Comments received after the closing date will be marked “late,” and may only be considered if time permits. Please note that comments may be part of the public record.

FOR FURTHER INFORMATION CONTACT: Questions regarding this action can be addressed to Mr. David F. Potter, Regional Planning & Environment Division North, by phone: (651) 290-5713, by fax: (651) 290-5805, by email: david.f.potter@usace.army.mil, or by mail: Regional Planning and Environment Division North, U.S. Army Corps of Engineers, 180 Fifth Street East, Suite 700, St. Paul, MN 55101-1678.

SUPPLEMENTARY INFORMATION: The Souris River Basin Flood Risk Management Feasibility Study (Feasibility Study) is being developed by the Corps in partnership with the Souris River Joint Water Resources Board (SRJB). The purpose of this study is to collect and evaluate pertinent engineering, economic, social, and environmental information in order to assess the potential for a federal flood risk management project within the basin. The study objective is to define a feasible and implementable project to reduce flood risk which is relatively high within the basin. Due to the potentially significant environmental effects associated with the project, the Corps issued a Notice of Intent to Prepare an EIS (76 FR 336) on September 18, 2016.

The Feasibility Study is complementary to the SRJB's local plan, the Mouse River Enhanced Flood Protection Plan (MREFPP). Because of its influence on an existing federal flood project, this non-federal effort has requested permission from the Corps of Engineers to pursue actions under 33 U.S.C. 408 (frequently referred to as Section 408). A separate Notice of Intent was published (FR Doc. 2015-17670 Filed July 16, 2015) for an EIS associated with the Corps of Engineers' decision on the Section 408 request. Additional details on the local, non-federal flood MREFPP can be found at mouseriverplan.com. During this Feasibility Study, many of the initial flood risk management measures were screened out from further consideration. Major features of the TSP include a high-flow diversion and a 1200-ft long levee. Preliminary analysis indicate that the environmental effects of the TSP are less than significant. For this reason, an EIS is no longer being pursued in favor of an EA in accordance with Corps regulations at 33 CFR part 230, Appendix C(2).

We are advising the public that a draft integrated FR/EA for the Feasibility Study has been prepared and is available for public review and comment. The FR/EA considers the effects of, and alternatives to, the TSP.

Dated: October 12, 2017.
Terry J. Birkenstock,
Deputy Chief, Regional Planning and Environment Division North.

[FR Doc. 2017-23318 Filed 10-25-17; 8:45 am]

BILLING CODE 3720-58-P